DEPARTMENT OF COMMERCE

National Oceanic and Atmospheric Administration

RIN: 0648-XN57

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee, on March 17-18, 2009, to consider actions affecting New England fisheries in the exclusive economic zone (EEZ). Recommendations from this group will be brought to the full Council for formal consideration and action, if appropriate.

DATES: This meeting will be held on Tuesday, March 17, 2009 at 10 a.m. and Wednesday, March 18, 2009 at 9 a.m.

ADDRESSES: The meeting will be held at the Courtyard by Marriott Hotel, 225 McClellan Highway, Boston, MA 02128; telephone: (617) 569-5250; fax: (617) 561-0971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, March 17, 2009

The Scientific and Statistical Committee (SSC) will conduct a review of proposed methods for analyzing the economic and social impacts of measures to be included in the Draft Environmental Impact Statement associated with Amendment 15 to the Sea Scallop Fishery Management Plan; proposed methods for determining monkfish acceptable biological catch and accountability measures; and discuss further planning for a proposed Ecosystem-based Fishery Management Workshop and any other outstanding committee business related to SSC meeting schedules, priorities and attendance.

Wednesday, March 18, 2009

The SSC will review the Habitat Plan Development Team's methods and analyses of gear effects, vulnerability assessment and adverse impacts evaluations associated with Draft Habitat Omnibus #2, an action that will update all New England Council fishery management plan essential fish habitat (EFH) designations and include measures to reduce adverse impacts on EFH.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 24, 2009.
Tracey L. Thompson,
Acting Director, Office of Sustainable Fisheries, National Marine Fisheries Service.

[FR Doc. E9-4186 Filed 2-26-09; 8:45 am]

BILLING CODE 3510-22-S